ENVIRONMENTAL PROTECTION AGENCY

40 CFR Part 52

[CO-001-0041b, CO-001-0042b, UT-001-0032b; FRL-6889-3]

Approval and Promulgation of Air Quality Implementation Plans; Colorado and Utah; 1996 Periodic Carbon Monoxide Emission Inventories

AGENCY: Environmental Protection Agency (EPA).

ACTION: Proposed rule.

SUMMARY: EPA is proposing to approve two State Implementation Plan (SIP) revisions: one submitted by the Governor of the State of Colorado on May 10, 2000; and the other submitted by the Governor of the State of Utah on June 14, 1999. The two revisions contain the 1996 periodic carbon monoxide (CO) emission inventories for Denver, Colorado, Fort Collins, Colorado, and Utah County, Utah that were submitted to satisfy the requirements of section 187(a)(5) of the Clean Air Act (CAA), as amended in 1990. In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of the direct final rule and if that provision may be severed from the remainder of the rule, EPA may adopt as final those provisions of the rule that are not the subject of an adverse comment.

DATES: Comments must be received in writing on or before November 24, 2000.

ADDRESSES: Written comments may be mailed to Richard R. Long, Director, Air and Radiation Program, Mailcode 8P-AR, Environmental Protection Agency (EPA), Region VIII, 999 18th Street, Suite 300, Denver, Colorado, 80202.

Copies of the documents relevant to this action are available for public inspection during normal business hours at the Air and Radiation Program, Environmental Protection Agency, Region VIII, 999 18th Street, Suite 300, Denver, Colorado, 80202.

Copies of the State documents relevant to this action are also available for public inspection at the Colorado Department of Public Health and Environment, Air Pollution Control Division, 4300 Cherry Creek Drive South, Denver, Colorado 80246-1530 and at the Utah Department of Environmental Quality, Division of Air Quality, 150 North 1950 West, Salt Lake City, Utah 84114-4820.

FOR FURTHER INFORMATION CONTACT: Megan Williams, EPA, Region VIII, (303) 312-6431.

SUPPLEMENTARY INFORMATION: See the information provided in the Direct Final action of the same title which is located in the Rules and Regulations section of this Federal Register.

Authority: 42 U.S.C. 7401 et seq.

Dated: October 12, 2000.
Jack W. McGraw,
Acting Regional Administrator, Region VIII.

[FR Doc. 00-27032 Filed 10-23-00; 8:45 am]

BILLING CODE 6560-50-P